NATIONAL SCIENCE FOUNDATION

Sunshine Act Meetings

The National Science Board (NSB), hereby gives notice of an agenda item changed on short notice to the meeting listed below.

The original Federal Register notice appeared on February 19, 2021 at 86 FR 10359.

TIME AND DATE: Tuesday, February 23, 2021 at 6:10 p.m. EST, and Wednesday, February 24, 2021 at 11:45 a.m. EST.

PLACE: The meeting will be held by videoconference. Members of the public may observe the public meeting, which will be streamed to the NSF You Tube channel. For meetings on Tuesday, February 23, go to: https://youtu.be/6JjWhwMhIKM.

For meetings on Wednesday, February 24, go to: https://youtu.be/tmiQwe7o_Y0.

MATTERS TO BE CONSIDERED:

Tuesday, February 23, 2021

Closed Session: 6:10 p.m.-6:45 p.m.

• Committee Chair's Remarks

• Approval of Prior Minutes

• Update on FY 2021 Budget and 2022 Budget Request Development

Wednesday, February 24, 2021

Open session: 11:45 a.m.-2:15 p.m.

• Committee Chair's Remarks

• Approval of Prior Minutes

• FY 2021 and FY 2022 Budget Update

• Presentation and discussion: Strengthening Foundational Research

• Presentation and discussion: NSF Translation and Innovation Activities

• Presentation and discussion: NSF's Missing Millions Efforts

• NSF Strategic Plan 2022-2026

Chris Blair,
Executive Assistant to the National Science Board Office.

[FR Doc. 2021-04117 Filed 2-24-21; 11:15 am]

BILLING CODE 7555-01-P